DEPARTMENT OF THE INTERIOR

National Park Service

Notice of Intent to Repatriate Cultural Items: American Museum of Natural History, New York, NY

AGENCY: National Park Service, Interior.

ACTION: Notice.

Notice is here given in accordance with the Native American Graves Protection and Repatriation Act (NAGPRA), 25 U.S.C. 3005, of the intent to repatriate cultural items in the possession of the American Museum of Natural History, New York, NY, that meet the definition of unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The two cultural items are a partial stone pipe and the handle of a stone club. The partial pipe, which appears to be about half of the original object, is a sculpted tubular pipe made of steatite. The bowl of the pipe is carved with an anthropomorphic design. The club handle is made of stone and is carved with a zoomorphic design.

In August 1902, W.F. Sonderman of Kennewick, WA, found the partial pipe in an “Indian grave” during the construction of an irrigation canal. The grave was located about 1/4 mile from the bank of the Yakima River at a point about 9 miles above its mouth. The museum acquired the pipe from Harlan I. Smith, who had purchased it from Mr. Sonderman. The museum accessioned the item in 1903.

At an unknown date, D.W. Owens collected the stone club handle on Blalock Island, Benton County, WA, which he gifted to the museum in 1905.

The locale of the two unassociated funerary objects is consistent with the postcontact territory of the Confederated Tribes of the Umatilla Reservation, Oregon. Mr. Sonderman indicated that the pipe was associated with glass beads, a metallic handle, and buttons, suggesting a postcontact date for the burial. The glass beads, metallic handle, and buttons were not part of the purchase made by Mr. Smith. According to experts of Plateau archeology, carved stone clubs have been found exclusively in burials on the Plateau. The Confederated Tribes of the Umatilla Reservation, Oregon has indicated that Blalock Island contains Umatilla habitation sites and that this type of stone club is commonly found in burials and cremations along the Columbia River. It is documented that burials on Blalock Island date to the postcontact period, which suggests that the club handle is from the postcontact period or from a postcontact burial.

Officials of the American Museum of Natural History have determined that, pursuant to 25 U.S.C. 3001 (3)(B), the cultural items are reasonably believed to have been placed with or near individual human remains at the time of death or later as part of the death rite or ceremony and are believed, by a preponderance of the evidence, to have been removed from a specific burial site of a Native American individual. Officials of the American Museum of Natural History also have determined that, pursuant to 25 U.S.C. 3001 (2), there is a relationship of shared group identity that can be reasonably traced between the unassociated funerary objects and the Confederated Tribes of the Umatilla Reservation, Oregon.

Representatives of any other Indian tribe that believes itself to be culturally affiliated with the unassociated funerary objects should contact Nell Murphy, Director of Cultural Resources, American Museum of Natural History, Central Park West at 79th Street, New York, NY 10024, telephone (212) 769-5837, before October 14, 2004. Repatriation of the unassociated funerary objects to the Confederated Tribes of the Umatilla Reservation, Oregon may proceed after that date if no additional claimants come forward.

The American Museum of Natural History is responsible for notifying the Confederated Tribes of the Umatilla Reservation, Oregon that this notice has been published.

Dated: July 8, 2004.
John Robbins,
Assistant Director, Cultural Resources.

[FR Doc. 04-20650 Filed 9-13-04; 8:45 am]

BILLING CODE 4312-50-S